DEPARTMENT OF AGRICULTURE

Request for Extension of a Currently Approved Information Collection

AGENCY: Commodity Credit Corporation, USDA.

ACTION: Notice and request for comments.

SUMMARY: In accordance with the Paperwork Reduction Act of 1995, this notice announces the intention of the Farm Service Agency (FSA) to request extension and reinstatement of the information collection currently approved for the Dairy Indemnity Payment Program.

DATES: Comments on this notice must be received on or before May 28, 2002 to be assured consideration.

FOR FURTHER INFORMATION CONTACT: Elizabeth A. Hill, USDA/Farm Service Agency, 1400 Independence Avenue, SW., STOP 0512; Washington, DC 20250-0512, telephone number (202) 720-9888. Comments may also be submitted by e-mail to: Elizabeth_Hill@wdc.usda.gov.

SUPPLEMENTARY INFORMATION: Title: Dairy Indemnity Payment Program.

OMB Control Number: 0560-0116.

Expiration Date of Approval: February 28, 2002.

Type of Request: Extension of a Currently Approved Information Collection.

Abstract: The Secretary of Agriculture is authorized to make Dairy Indemnity Payments to producers who have been directed to remove their raw milk from the commercial market because it has been contaminated by pesticides, nuclear radiation or fallout, or toxin substance and chemical residues other than pesticides.

Estimate of Burden: Public reporting burden for the collection of information is estimated to average 5 minutes per producer.

Respondents: Producers.

Estimated Number of Respondents: 80.

Estimated Number of Responses per Respondent: 1.

Estimated Total Annual Burden on Respondents: 126 hours.

Proposed topics for comment include: (a) Whether the collection of information is necessary for the proper performance of the functions of the agency, including whether the information will have practical utility and protect the interests of CCC and the producer; (b) the accuracy of the agency's estimate of burden including the validity of the methodology and assumptions used; (c) ways to enhance the quality, utility, and clarity of the information collected; or (d) ways to minimize the burden of the collection of the information on those who respond, including the use of appropriated automated, electronic, mechanical, or techniques or other forms of information technology.

Comments should be sent to the Desk Officer for Agriculture, Office of Information and Regulatory Affairs, Office of Management and Budget, Washington, DC 20503 and to Elizabeth A. Hill, USDA/Farm Service Agency, 1400 Independence Avenue, SW., STOP 0512; Washington, DC 20250-0512, telephone number (202) 720-9888. All responses to this notice will be summarized and included in the request for OMB approval. All comments will become a matter of public record.

Signed at Washington, DC, on March 8, 2002.
James R. Little,
Administrator, Farm Service Agency.

[FR Doc. 02-7424 Filed 3-27-02; 8:45 am]

BILLING CODE 3410-05-P